DEPARTMENT OF THE TREASURY

Submission for OMB Review; Comment Request

May 4, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 12, 2000 to be assured of consideration.

Internal Revenue Service (IRS)

OMB Number: 1545-0805.

Form Number: IRS Form 5472.

Type of Review: Extension.

Title: Information Return of a 25% Foreign-Owned U.S. Corporation or a Foreign Corporation or a Foreign Corporation Engaged in a U.S. Trade or Business.

Description: Form 5472 is used to report information transactions between a U.S. corporation that is 25% foreign owned or a foreign corporation that is engaged in a U.S. trade or business and related foreign parties. The IRA uses Form 5472 to determine if inventory or other costs deducted by the U.S. or foreign corporation are correct.

Respondents: Business or other for-profit.

Estimated Number of Respondents/Recordkeepers: 75,000.

Estimated Burden Hours Per Respondent/Recordkeeper:

Recordkeeping—17 hr., 42 min.

Learning about the law or the form—3 hr., 5 min.

Preparing and sending the form to the IRS—3 hr., 30 min.

Frequency of Response: Annually.

Estimated Total Reporting/Recordkeeping Burden: 1,821,000 hours.

OMB Number: 1545-1682.

Form Number: None.

Type of Review: Extension.

Title: Return-Free Tax Filing System Focus Group Interviews.

Description: As required by the IRS Restructuring and Reform Act of 1998, the IRS will be reporting to Congress annually on its progress in developing a Return-Free Tax Filing System. The purpose of these focus groups is to collect information to accurately and objectively establish a benchmark of current levels of taxpayer acceptance and potential use of a Return-Free Tax System. The focus groups would also provide the IRS with information to be used in marketing and communications efforts related to Return-Free. Such a system may eliminate the need for taxpayer-initiated filing with the IRS, even electronic filing.

Respondents: Individuals or households.

Estimated Number of Respondents: 480.

Estimated Burden Hours Per Respondent: 2 hours, 30 minutes.

Frequency of Response: Other (one-time only).

Estimated Total Reporting Burden: 160 hours.

OMB Number: 1545-1684.

Form Number: None.

Type of Review: Extension.

Title: Pre-Filing Agreements Pilot Program.

Description: Notice 2000-12 describes a pilot program under which certain large business taxpayers may request examination and resolution of a specific issues relating to tax returns they expect to file between September and December, 2000. The resolution of such issues under the pilot program will be memorialized by a type of closing agreement under Code section 7121 called a pre-filing agreement.

Respondents: Business or other for-profit.

Estimated Number of Respondents/Recordkeepers: 24.

Estimated Burden Hours Per Respondent/Recordkeeper: 40 hours, 17 minutes.

Frequency of Response: On occasion.

Estimated Total Reporting/Recordkeeping Burden: 967 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 00-11754 Filed 5-10-00; 8:45 am]

BILLING CODE 4830-01-P